U.S. DEPARTMENT OF COMMERCE

Foreign-Trade Zones Board

(Docket 8-2007)

Foreign-Trade Zone 183 - Austin, Texas, Expansion of Manufacturing Authority -- Subzone 183B, Samsung Austin Semiconductor L.L.C., Correction

The Federal Register notice published on March 20, 2007 (72 FR 13081-) describing the application by the Foreign-Trade Zone of Central Texas, Inc., grantee of FTZ 183, requesting an expansion of the scope of manufacturing authority conducted under zone procedures within Subzone 183B at the Samsung Austin Semiconductor L.L.C. facility in Austin, Texas, is corrected as follows:

In paragraph 2, beginning on the 13th line, the text that reads ``Site 3--Three Way Inc. facilities (1.9 acres; 50,000 sq. ft.)--located at 4009 Commercial Center Drive in Austin'' should be corrected to read ``Site 3--Three Way Logistics facilities (1.9 acres; 50,000 sq. ft.) - located at 8410 Tuscany Way in Austin''.

Dated: March 26, 2007.
Andrew McGilvray,
Executive Secretary.

[FR Doc. E7-5926 Filed 3-30-02; 8:45 am]

Billing Code: 3510-DS-S